DEPARTMENT OF ENERGY

Federal Energy Regulatory Commission

[Docket No. ER00-1317-000]

Central Vermont Public Service Corporation; Notice of Filing

February 10, 2000.

Take notice that on February 7, 2000, Central Vermont Public Service Corporation (Central Vermont), tendered for filing revised Network Integration Transmission Service Agreements with Vermont Electric Cooperative, Inc.; Woodsville Fire District Water and Light Department (Woodsville); Village of Johnson Water and Light Department; Rochester Electric Light and Power Company; Village of Ludlow Electric Light Department of serve under Central Vermont's Open Access Transportation Tariff No. 7. The revisions add provisions relating to ancillary services for each of the customers. Central Vermont requests that the Commission waive its notice of filing requirements and allow the agreements to become effective as of January 1, 2000, consistent with Central Vermont's original request in the docket.

Any person desiring to be heard or to protests such filing should file a motion to intervene or protest with the Federal Energy Regulatory Commission, 888 First Street, NE Washington, DC 20426, in accordance with Rules 211 and 214 of the Commission's Rules of Practice and Procedure (18 CFR 385.211 and 385.214). All such motions and protests should be filed on or before February 28, 2000. Protests will be considered by the Commission to determine the appropriate action to be taken, but will not serve to make protestants parties to the proceedings. Any person wishing to become a party must file a motion to intervene. Copies of this filing are on file with the Commission and are available for public inspection. This filing may also be viewed on the Internet at http:\\www.ferc.fed.us/online/rims.htm (call 202-208-2222 for assistance).

Linwood A. Watson, Jr.,
Acting Secretary.

[FR Doc. 00-4087 Filed 2-18-00; 8:45 am]

BILLING CODE 6717-01-M